DEPARTMENT OF TRANSPORTATION

Federal Aviation Administration

14 CFR 71

[Docket No. FAA-2004-19325; Airspace Docket No. 04-ACE-54]

Modification of Class E Airspace; Dodge City, KS

AGENCY: Federal Aviation Administration (FAA), DOT.

ACTION: Direct final rule; request for comments; correction.

SUMMARY: This action corrects a direct final rule; request for comments that was published in the Federal Register on Tuesday, October 19, 2004, (69 FR 61439) [FR Doc. 04-23387]. It corrects an error in the legal description of the Class E airspace area extending upward from 700 feet above the surface at Dodge City, KS.

DATES: This direct final rule is effective on 0901 UTC, January 20, 2005.

FOR FURTHER INFORMATION CONTACT: Kathy Randolph, Air Traffic Division, Airspace Branch, ACE-520C, DOT Regional Headquarters Building, Federal Aviation Administration, 901 Locust, Kansas City, MO 64106; telephone (816) 329-2525.

SUPPLEMENTARY INFORMATION:

History

Federal Register Document 04-23387, published on Tuesday, October 19, 2004, (69 FR 61439) modified the Class E airspace area designated as a surface area and the Class E airspace area extending upward from 700 feet above the surface at Dodge City, KS. The modification corrected discrepancies in the Dodge City Regional Airport airport reference point used in the legal descriptions, corrected the airspace dimensions to protect for diverse departures, established an extension to the airspace area extending upward from 700 feet above the surface and brought the legal descriptions of the Dodge City, KS Class E airspace areas into compliance with FAA Orders 7400.2E, Procedures for Handling Airspace Matters, and 8260.19C, Flight Procedures and Airspace. However, there was a typographical error in the legal description for the Class E airspace area extending upward from 700 feet above the surface.

Accordingly, pursuant to the authority delegated to me, the legal description of the Class E airspace area extending upward from 700 feet above the surface at Dodge City, KS, as published in the Federal Register on Tuesday, October 19, 2004, (69 FR 61439) [FR Doc. 04-23387] is corrected as follows:

PART 71—[CORRECTED]

§ 71.1 [Corrected]

On page 61440, Column 2, fourth paragraph, third line from the bottom, change “6.8” to read “6.7”.

Issued in Kansas City, MO on October 19, 2004.
Paul J. Sheridan,
Area Director, Western Flight Services Operations.

[FR Doc. 04-24265 Filed 10-28-04; 8:45 am]

BILLING CODE 4910-13-M